SOCIAL SECURITY ADMINISTRATION

Agency Information Collection Activities: Proposed Request and Comment Request

The Social Security Administration (SSA) publishes a list of information collection packages that will require clearance by the Office of Management and Budget (OMB) in compliance with Public Law 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer at the following addresses:

(OMB) Office of Management and Budget, Attn: Desk Officer for SSA, New Executive Office Building, Room 10235, 725 17th St., NW., Washington, DC 20503.

(SSA) Social Security Administration, DCFAM, Attn: Reports Clearance Officer, 1-A-21 Operations Bldg., 6401 Security Blvd., Baltimore, MD 21235.

I. The information collections listed below will be submitted to OMB within 60 days from the date of this notice. Therefore, your comments should be submitted to SSA within 60 days from the date of this publication. You can obtain copies of the collection instruments by calling the SSA Reports Clearance Officer at 410-965-0454, or by writing to the address listed above.

1. Employee Verification Service (EVS)

Background

Under Internal Revenue Service regulations, employers are required to provide wage and tax data to SSA using form W-2, Wage and Tax Statement or its electronic equivalent. As part of this process, the employer must furnish the employee's name and Social Security Number (SSN). This information must match SSA's records in order for the employee's wage and tax data to be properly posted to the Earnings Record. Information that is incorrectly provided to the Agency must be corrected by the employer using an amended reporting form, which is a labor-intensive and time-consuming process for both SSA and the employer. Therefore, to help ensure that employers provide accurate name and SSN information on their wage reports, SSA is offering the EVS service whereby employers can verify, via magnetic tape, cartridge, diskette, paper, and telephone, if the reported name and SSN of their employee matches SSA's records.

EVS Collection

SSA will use the information collected through the EVS to verify that the employee name and SSN information, provided by employers, matches SSA records. SSA will respond to the employer informing them only of matches and mismatches of submitted information. Respondents are employers who provide wage and tax data to SSA who elect to use EVS to verify their employees' names and SSNs.

Type of Request: New Information Collection.

Number of Respondents: 100,000.

Frequency of Response: 5.

Average Burden Per Response: 10 minutes.

Estimated Annual Burden: 83,333 hours.

2. 20 CFR Part 422.527, Private Printing and Modification of Prescribed Applications and Other Forms—0960-NEW

SSA uses the information required by this regulation to process requests from a person, institution or organization (requesting entities) that want to reproduce, duplicate, or privately print any SSA application or other form prescribed by SSA. The requesting entities must obtain prior approval from SSA and make their requests in writing, providing the required information set forth in the regulation. Respondents are the requesting entities that want to reproduce, duplicate, or privately print any SSA application or other form.

Type of Request: New Information Collection.

Number of Respondents: 4.

Frequency of Response: 1.

Average Burden Per Response: 8 minutes.

Estimated Annual Burden: 1/2 hour.

3. Medical Source Statement of Ability To Do Work-Related Activities (Physical), Form HA-1151; Medical Source Statement of Ability To Do Work-Related Activities (Mental), Form HA-1152—0960-NEW

SSA's Office of Hearing and Appeals (OHA) uses the HA-1151 (Physical) and its companion form HA-1152 (Mental) to collect information that Administrative Law Judges and the Appeals Council of OHA require to determine the residual functional capacity (RFC) of individuals who are appealing denied claims for benefits based on disability. RFC must be determined to decide cases that cannot be decided based on current work activity or on medical facts alone. Both forms are completed by medical sources that provide medical reports based either on existing medical evidence or on consultative examinations conducted for the purposes of the report. Respondents to these forms are medical sources that provide medical reports.

Type of Request: New Information Collections.

HA-1151

Number of Respondents: 5,000.

Frequency of Response: 20.

Average Burden Per Response: 15 minutes.

Estimated Annual Burden: 25,000 hours.

HA-1152

Number of Respondents: 5,000.

Frequency of Response: 20.

Average Burden Per Response: 15 minutes.

Estimated Annual Burden: 25,000 hours.

II. The information collection listed below has been submitted to OMB for clearance. Your comments on the information collections would be most useful if received by OMB and SSA within 30 days from the date of this publication. You can obtain a copy of the OMB clearance package by calling the SSA Reports Clearance Officer on (410) 965-0454, or by writing to the address listed above.

The Census Bureau Survey of Income and Program Participation (SIPP) on Behalf of the Social Security Administration (SSA)—0960-NEW. SSA has requested the Census Bureau to include in its SIPP interviews scheduled for January 2003 a sample of social security disabled insurance beneficiaries and supplemental security income recipients. SSA will use these data to conduct statistical research of recipients of SSA-administered programs. The SIPP for SSA Beneficiaries is a household-based survey molded around a central “core” of labor force and income questions. The core is supplemented with questions designed to address specific needs, such as obtaining information about assets and liabilities, as well as expenses related to work, health care, child support and real estate/dependent care. These supplemental questions are included with the core and are referred to as “topical modules.”

The survey is currently scheduled for one month and will include approximately 1,000 households. We estimate that each household will average 2.1 people, yielding 2,100 interviews. Interviews take 30 minutes on average. The total burden for the SIPP for SSA Beneficiaries would be 1,050 hours.

The topical modules for the SIPP for SSA Beneficiaries collect information about:

• Medical Expenses and Utilization of Health Care (Adults and Children)

• Work Related Expenses, Child Support Paid and Child Care Poverty

• Assets, Liabilities, and Eligibility

• Real Estate and Dependent Care

The survey interviews will be conducted from January 1, 2003 through January 31, 2003.

Type of Request: New Information Collection.

Number of Respondents: 2,100.

Frequency of Response: 1.

Average Burden Per Response: 30 minutes.

Estimated Annual Burden: 1,050 hours.

Dated: July 15, 2002.
Elizabeth A. Davidson,
Reports Clearance Officer, Social Security Administration.

[FR Doc. 02-18189 Filed 7-19-02; 8:45 am]

BILLING CODE 4191-02-P